ENVIRONMENTAL PROTECTION AGENCY

[ER-FRL-8598-1]

Environmental Impacts Statements; Notice of Availability

Responsible Agency: Office of Federal Activities, General Information (202) 564-1399 or http://www.epa.gov/compliance/nepa/.

Weekly Receipt of Environmental Impact Statements Filed 09/28/2009 through 10/02/2009 Pursuant to 40 CFR 1506.9

EIS No. 20090340, Final EIS, AFS, UT, Pockets Resource Management Project, Additional Information on Analysis and Disclosure on the Effect of the PA and Alternatives on Three Unroaded and Undeveloped Areas Identified on a 2005 Draft Map, Proposes to Salvage Dead and Dying Spruce/Fir, Regenerate Aspen, and Manage Travel, Escalate Ranger District, Dixie National Forest, Garfield County, UT, Wait Period Ends: 11/09/2009, Contact: Marianne Breeze Orton 435-676-9360.

EIS No. 20090341, Final EIS, IBR, CA, Grassland Bypass Project 2010-2019 Project, Proposed new Use Agreement, San Joaquin River, CA, Wait Period Ends: 11/09/2009, Contact: Shauna McDonald 559-487-5202.

EIS No. 20090342, Final EIS, AFS, CA, Sequoia National Forest Motorized Travel Management Project, Prohibit Cross-Country Travel for Managing Motorized Travel, Kern River, Western Divide Ranger Districts, Sequoia National Forest, Tulare County, CA, Wait Period Ends: 11/09/2009, Contact: Barbara Johnston 559-784-1500 Ext. 1220.

EIS No. 20090343, Draft EIS, AFS, OR, Deschutes and Ochoco National Forest and the Crooked River National Grassland Travel Management Project, Implementation, Deschutes, Jefferson, Crook, Klamath, Lake, Grant and Wheeler County, OR, Comment Period Ends: 11/23/2009, Contact: Mollie Chaudet 541-383-5517.

EIS No. 20090344, Draft EIS, AFS, WY, Rattlesnake Forest Management Project, Proposes to Implement Multiple Resource Management Action, Bearlodge Ranger District, Black Hills National Forest, Crook County, WY, Comment Period Ends: 11/23/2009, Contact: Elizabeth Krueger 307-283-1361.

EIS No. 20090345, Draft EIS, AFS, WI, Honey Creek-Padus Project, Proposes to Harvest Timber, Regenerate Stands, Plant and Protect Tree Seedlings and Manage Access on Approximately 6,702 Acres, Lakewood-Laona Ranger District, Chequamegon-National Forest, Forest County, WI, Comment Period Ends: 11/23/2009, Contact: Marilee Houlter 715-276-6333.

EIS No. 20090346, Draft EIS, TVA, 00, Northeastern Tributary Reservoirs Land Management Plan, Implementation, Beaver Creek, Clear Creek, Boone, Fort Patrick Henry, South Holston, Watauga, and Wilbur Reservoirs, Carter, Johnson, Sullivan, and Washington Counties, TN and Washington County, VA, Comment Period Ends: 11/23/2009, Contact: Amy Henry 856-632-4045.

EIS No. 20090347, Final EIS, AFS, MT, Butte Lookout Project, Proposed Timber Harvest, Prescribed Burning, Road Work and Management Activities, Missoula Ranger District, Lola National Forest, Missoula County, MT, Wait Period Ends: 11/09/2009, Contact: Tami Paulson 406-329-3731.

EIS No. 20090348, Final EIS, EPA, AK, Red Dog Mine Extension—Aqqaluk Project, Reissuance Permit Applications for National Pollutant Discharge Elimination System (NPDES) Permit and New Information, Chukchi Sea, AK, Wait Period Ends: 11/09/2009, Contact: Patricia McGrath 206-553-0979.

Amended Notices

EIS No. 20090231, Draft EIS, BIA, CA,

Point Molate Mixed-Use Tribal Destination Resort and Casino,

Proposed Project is to Strengthen the Tribal Government and

Improve the Social economic Status, Guidiville Band of Pomo

Indian of the Guidiville Rancheria (Tribe), City of Richmond,

Contra Costa County, CA, Comment Period Ends: 10/23/2009,

Contact: Larry Blevin 916-978-6037.

EIS No. 20090244, Draft EIS, BLM, CA,

Santa Ana River Wash Land Use Plan Amendment and Land Exchange

Project, Proposes to Exchange Land Located within Upper Santa

Ana River Wash, for District-Owned Lands in San Bernardino

County, CA, Comment Period Ends: 10/21/2009, Contact: Michael

Bennett 760-833-7139.

Revision to FR Notice Published 07/24/2009: Extending Comment Period from 09/8/2009 to 10/21/2009

EIS No. 20090252, Draft EIS, NPS, DC,

White-Tailed Deer Management Plan, To Develop a White-Tailed

Deer Management that Supports Long-Term Protection, Preservation

and Restoration of Native Vegetation and other Natural and

Cultural Resource in Rock Creek Park, Washington, DC, Comment

Period Ends: 11/02/2009, Contact: Ken Ferebee 202-895-6221

Revision to FR Notice Published 07/31/2009: Extending Comment

Period from 09/14/2009 to 11/02/2009.

Dated: October 6, 2009.
Robert W. Hargrove,
Director, NEPA Compliance Division, Office of Federal Activities.

[FR Doc. E9-24467 Filed 10-8-09; 8:45 am]

BILLING CODE 6560-50-P